DEPARTMENT OF ENERGY

National Nuclear Security Administration

Addition of Property for the Kansas City Plant Facilities

AGENCY: National Nuclear Security Administration (NNSA), U.S. Department of Energy (DOE).

ACTION: Notice of addition of property for the Kansas National Security Campus (KCNSC) (Formerly Kansas City Plant) Facilities.

SUMMARY: Notice is hereby given that the U.S. Department of Energy, pursuant to the Atomic Energy Act of 1954, as amended, prohibits the unauthorized entry and the unauthorized introduction of weapons or dangerous materials into or upon the facilities of the KCNSC (formerly Kansas City Plant) of the United States Department of Energy, National Nuclear Security Administration. The facilities are described in this notice.

DATES: This action is effective on June 6, 2023.

FOR FURTHER INFORMATION CONTACT:

Laurel I. Fetterer, Officially Designated Federal Security Authority (ODFSA), NNSA Kansas City Plant, 14520 Botts Road, Kansas City, MO 64147, Telephone: (816) 488-5109, Facsimile: (816) 488-3718, Laurel.Fetterer@nnsa.doe.gov.

Albert N. Guarino, Consultant Counsel, NNSA Kansas City Plant, 14520 Botts Road, Kansas City, MO 64147, Telephone: (816) 488-3344, Facsimile: (816) 488-3718, Albert.Guarino@nnsa.doe.gov.

SUPPLEMENTARY INFORMATION: Public notice of the section 229 boundary of the Kansas City Plant was initially made in the Federal Register notice published October 19, 1965 (30 FR 13290). The boundary was revised on November 25, 1983 (48 FR 56822-568224). The boundary was again revised on October 26, 2012 (77 FR 65376).

Pursuant to section 229 of the Atomic Energy Act, as implemented by DOE regulations at 10 CFR part 860 (28 FR 8400, Aug. 26, 1963), the following additions to the existing boundary are made: add to the existing 229 Boundary the tracts which comprise the U.S. Department of Energy, National Nuclear Security Administration, Kansas City National Security Campus (formerly Kansas City Plant operating area). The additions are described in further detail in the paragraphs that follow. DOE regulations prohibit the unauthorized entry (10 CFR 860.3) and the unauthorized introduction of weapons or dangerous materials (10 CFR 860.4) into or upon the facilities.

Property Description

Building 20 (KCNSC South)

15431 Andrews Rd., Kansas City, Jackson County, MO—Building and parking for KCNSC South Building and parking—Building and parking for KCNSC South Building Legal Description: SEC-34 TWP-47 RNG-33 PT SE + & PT SW + SEC 35 TWP-47 RNG-33 DAF: BEG SE COR SE + TH N 03 DEG 35 MIN 08 SEC E 49.89′ TH N 86 DEG 23 MIN 24 SEC W 305.54′ TO TRU POB TH N 33 DEG 38 MIN 06 SEC E 156.59′ TH N 38 DEG 16 MIN 11 SEC E 85.59′ TH N 54 DEG 07 MIN 48 SEC E 73.49' TH N 74 DEG 58 MIN 14 SEC E 80.48' TH S 88 DEG 32 MIN 58 SEC E 28.96' TH N 43 DEG 57 MIN 19 SEC W 65.50' TH N 46 DEG 04 MIN 57 SEC W 403.67′ TH S 43 DEG 57 MIN 21 SEC W 774.36′ TH S 86 DEG 21 MIN 47 SEC E 478.06′ TO TRU POB containing 5.19 acres.

Building 21 (KCNSC West)

6700 W 115th Street, Overland Park, Johnson County, KS—Building and parking for KCNSC West Building—Legal Description: OVERLAND PARK PLAZA II PT LT 4LYING WITHIN IND CR SD BLK 3 OPC 423 3 41 containing 6.44 Acres.

Building 22 (KCNSC North)

9221 Ward Parkway, Ward Parkway Office Park Kansas City, Jackson County, MO—Building and parking for KCNSC North Building Legal Description: ALL BLKS 3 & 4 EXC SELY 15 FT OF SD BLK 4, Jackson County APN: JA48410064700000000.

Building 23 (KCNSC East)

14901 Andrews Road, Kansas City, Jackson County, MO—Legal Description: Lot 1, CENTERPOINT INTERMODAL CENTER THIRD PLAT, a subdivision in Kansas City, Jackson County, Missouri, according to the recorded plat thereof, recorded June 24, 2015, as Document No. 2015E0054260, in Plat Book 49 at Page 74, lying above the top of the Winterset Ledge of Limestone Rock.

TA-193

18829 S Mullen Rd., Belton, Cass County, MO—Legal Description: All that land as described in the Judgement Upon Declaration of taking, Civil Action N. 9644 as recorded in Book 400 at Page 173 in the recorder of Deeds office, Cass County, Missouri, which describes land as it now exists in its entirety under title to the United states of America, being more particularly described as follows: BEGINNING at a point common to the South-east corner of Section 25 and the Northeast corner of section 36, all in Township 46 North, Range 33 West, Cass County, Missouri, thence South 265.73 feet along the East line of the Northeast one-quarter of said section 36; thence North 88°26′35″ West, 2624.53 feet along the South line of the North 16 acres of the Northeast one-quarter of said Section 36 to the South-west corner of said North 16 acres; thence North 00°18′24″ East, 265.70 feet to the Southwest corner of the Southeast one-quarter of said Section 25, Township 46 North, Range 33 West; thence North 00°12′48″ East 1327.38 feet along the West line of said Southeast one-quarter to the Southeast corner of the Northeast one-quarter of the Southwest one-quarter of said Section 25; thence North 88°11′15″ West 1304.17′ (measured) along the South line of said Northeast one-quarter of said Southwest one-quarter to a ½″ inside diameter pipe with a 60 pwt. Nail inside found in place at the South-west corner of the Northeast one-quarter of said Southwest one-quarter; thence North 00°17′33″ East along the West line of said Northeast one-quarter, said line also being the East line of “BROWN ACRES” according to the recorded plat thereof, recorded in Book 3 at Page 23 a distance of 1322.89 feet to the Northeast corner of said “BROWN ACRES” said point also referred to as the Northwest corner of said Northeast one-quarter of said Southwest one-quarter; thence along the North line of said Northeast one-quarter South 88°22′58″ East, 1302.22 feet (measured) to a ½″ inside diameter pipe with a ⅜″ rebar inside, found in place at the center of said Section 25, Township 46 North, Range 33 West; thence North 00°14′11″ East, 333.55 feet to the Northwest corner of the South 10 acres of the Southwest one-quarter of the Northeast one-quarter; thence South 88°18′47″ East, 1306.01 feet to the Northeast corner of said South 10 acres; thence South 00°07′04″ West, 333.57 feet along the East line of said Southwest one-quarter to the Southeast corner thereof; thence South 88°18′47″ East 1306.68 feet to the Northeast corner of the Southeast one-quarter of said Section 25; thence South, 2649.07 feet to the Southeast corner there-of, also being the point of beginning of the herein described tract. Less the East 30.00 feet being used for country road right-of-way. CONTAINS: 224.973 acres Gross. Less 22.008 acres for road right-of-way = 222.965 acres Net.

This revised boundary is in addition to the property description contained in the Federal Register notice published October 19, 1965 (30 FR 13290), revised on November 25, 1983 (48 FR 56822-56824), and again revised on October 26, 2012 (77 FR 65376). Addition of the Kirtland Operations operating area property does not terminate the prior Kansas City Plant section 229 listing.

Signing Authority

This document of the Department of Energy was signed on June 1, 2023, by Laurel I. Fetterer, Officially Designated Federal Security Authority (ODFSA), NNSA Kansas City Plant, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 1, 2023.
Treena V. Garrett,
Federal Register Liaison Officer, U.S. Department of Energy.

[FR Doc. 2023-11995 Filed 6-5-23; 8:45 am]

BILLING CODE 6450-01-P